SMALL BUSINESS ADMINISTRATION

[Disaster Declaration #12770 and #12771]

Puerto Rico Disaster Number PR-00015

AGENCY: U.S. Small Business Administration.

ACTION: Amendment 1.

SUMMARY: This is an amendment of the Presidential declaration of a major disaster for Public Assistance Only for the Commonwealth of Puerto Rico (FEMA-4017-DR), dated 08/27/2011.

Incident: Hurricane Irene.

Incident Period: 08/21/2011 and continuing.

DATES: Effective Date: 09/03/2011.

Physical Loan Application Deadline Date: 10/26/2011.

Economic Injury (EIDL) Loan Application Deadline Date: 05/28/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the Commonwealth of Puerto Rico, dated 08/27/2011, is hereby amended to include the following areas as adversely affected by the disaster.

Primary Counties: Adjuntas, Aguada, Aibonito, Anasco, Arecibo, Arroyo, Barranquitas, Bayamon, Caguas, Canovanas, Catano, Ciales, Cidra, Coamo, Corozal, Culebra, Fajardo, Guayama, Guaynabo, Gurabo, Humacao, Jayuya, Juana Diaz, Las Piedras, Maricao, Maunabo, Naranjito, Rincon, Rio Grande, Sabana Grande, Salinas, San Lorenzo, Santa Isabel, Trujillo Alto, Vieques, Yabucoa, Yauco.

All other information in the original declaration remains unchanged.

(Catalog of Federal Domestic Assistance Numbers 59002 and 59008)

James E. Rivera,
Associate Administrator for Disaster Assistance.

[FR Doc. 2011-23571 Filed 9-13-11; 8:45 am]

BILLING CODE 8025-01-P